DEPARTMENT OF TRANSPORTATION

Surface Transportation Board

[Docket No. AB 1096X]

Georgia Department of Transportation—Abandonment Exemption—in Fulton County, GA

On March 20, 2012,¹ the Georgia Department of Transportation (GDOT) filed with the Surface Transportation Board (Board) a petition under 49 U.S.C. 10502 for exemption from the prior approval requirements of 49 U.S.C. 10903 to abandon a 3.12-mile line of railroad between milepost 469.15 and milepost 472.27, which comprises a portion of a line known as the L&N Belt, in Fulton County, Ga. (West End Property). The West End Property traverses United States Postal Service Zip Codes 30310 and 30314, and includes no stations.

¹ GDOT submitted its petition on March 15, 2012. However, GDOT acquired the line in December 2001 but did not seek the requisite regulatory authority for this acquisition until February 2012. See Ga. Dep't of Transp.—Acquis. Exemption—CSX Transp., Inc., FD 35591 (STB served Feb. 27, 2012). The acquisition exemption sought by GDOT in Docket No. FD 35591 did not become effective until March 18, 2012, three days after GDOT submitted its petition for abandonment in this proceeding. Thus, on March 28, 2012, GDOT submitted a letter asking the Board to deem GDOT's petition for abandonment exemption to have been filed on March 20, 2012. GDOT's petition is deemed to have been filed on March 20, 2012.

In addition to an exemption from the prior approval requirements of 49 U.S.C. 10903, GDOT seeks an exemption from 49 U.S.C. 10904 (offer of financial assistance procedures) and 10905 (public use provisions). In support, GDOT states that, following abandonment, the West End Property would be used in developing the Atlanta BeltLine, an economic development effort that combines transit, green space, trails and new commercial, residential, and public facility development along a 22-mile ring of historic rail segments encircling Atlanta's urban core. Specifically, according to GDOT, the West End Property would be used to develop a transit corridor to accommodate light rail or buses in a fixed guideway, along with a trail and adjacent uses designed to support and be supported by the variety of available transportation modes. These requests will be addressed in a later decision.

GDOT states that, based on information in its possession, the West End Property does not contain federally granted rights-of-way. Any documentation in GDOT's possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued no later than July 6, 2012.²

² GDOT has requested expedited consideration of its petition.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than April 30, 2012. Each trail use request must be accompanied by a $250 filing fee. See 49 CFR 1002.2(f)(27).

All filings in response to this notice must refer to Docket No. AB 1096X, and must be sent to: (1) Surface Transportation Board, 395 E Street SW., Washington, DC 20423-0001; and (2) Charles A. Spitulnik, Kaplan Kirsch & Rockwell, 1001 Connecticut Ave. NW., Suite 800, Washington, DC 20036. Replies to the petition are due on or before April 30, 2012.

Persons seeking further information concerning abandonment procedures may contact the Board's Office of Public Assistance, Governmental Affairs, and Compliance at (202) 245-0238 or refer to the full abandonment or discontinuance regulations at 49 CFR part 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). Board decisions and notices are available on our Web site at www.stb.dot.gov.

Decided: April 2, 2012.
By the Board, Rachel D. Campbell, Director, Office of Proceedings.
Raina S. White,
Clearance Clerk.

[FR Doc. 2012-8423 Filed 4-6-12; 8:45 am]

BILLING CODE 4915-01-P